DEPARTMENT OF TRANSPORTATION

Pipeline and Hazardous Material Safety Administration

Office of Hazardous Materials Safety; Notice of Application for Special Permits

AGENCY: Pipeline and Hazardous Material Safety Administration, DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each Mode of transportation for which a particular special permit is requested is indicated by a number in the “Nature of Application” portion of the table below as follows: 1—Motor vehicle, 2—Rail freight, 3—Cargo vessel, 4—Cargo aircraft only, 5—Passenger-carrying aircraft.

DATES: Comments must be received on or before January 17, 2006.

ADDRESS COMMENTS TO: Record Center, Pipeline and Hazardous Materials Safety Administration, U.S. Department of Transportation, Washington, DC 20590.

Comments should refer to the application number and be submitted in triplicate. If Confirmation of receipt of comments is desired, include a self-addressed stamped postcard showing the special permit number.

FOR FURTHER INFORMATION CONTACT: Copies of the applications are available for inspection in the Records Center, Nassif Building, 400 7th Street, SW., Washington DC or at http://dms.dot.gov.

This notice of receipt of applications for special permits is published in accordance with part 107 of the Federal hazardous materials transportation law (49 U.S.C. 5117(b); 49 CFR 1.53(b)).

Issued in Washington, DC, on December 12, 2005.
R. Ryan Posten,
Chief, Special Permits Program, Office of Hazardous Materials Special Permits & Approvals.

Application No. | Docket No. | Applicant | Regulation(s) affected | Nature of special permits thereof
NEW SPECIAL PERMITS
14283-N | PHMSA-23246 | U.S. Department of Energy (DOE), Washington, DC | 49 CFR Part 172, Subparts E, F; 171.15; 171.16; 172.202; 172.203(c)(1)(i)”; 172.203(d)(1); 172.310; 172.316(a)(7); 172.331(b)(2); 172.332; 173.403(c); 173.425(c)(1)(iii); 173.425(c)(5); 173.443(a); 174.24; 174.25; 174.45; 174.59; 174.700; 174.715; 177.807; 177.843(a) | To authorize the transportation in commerce of low specific activity radioactive materials (uranium mill tailings) under special conditions in non-DOT specification packagings without labeling and placarding (Modes 1, 2)
14285-N |  | INO Therapeutics LLC, Port Allen, LA | 49 CFR 173.301(1) | To authorize the transportation in commerce of non-DOT specification foreign aluminum cylinders containing a Division 2.2 nitric oxide mixture for export only. (Modes 1, 3, 4)
14286-N |  | EF Products, Inc. | 49 CFR 173.304(d) | To authorize the manufacture, mark, sale and use of a non-refillable, non-DOT specification inside metal container similar to a DOT 2Q container for the transportation of certain hazardous materials. (Modes 1, 2, 3, 4)
14287-N |  | Troxler Electronic Laboratories, Inc., Research Triangle Park, NC | 49 CFR 173.431 | To authorize the transportation in commerce of certain radioactive materials exceeding the quantity that may be transported in a Type A packaging. (Modes 1, 4)
14289-N |  | City Machine & Welding, Inc | 49 CFR 180.209 | To authorize the transportation in commerce of certain DOT Specification 3AA, 3AAX and 3T cylinders which have been alternatively ultrasonically retested. (Modes 1, 2, 3)

[FR Doc. 05-24130 Filed 12-15-05; 8:45 am]

BILLING CODE 4909-60-M